DEPARTMENT OF ENERGY

Federal Energy Regulatory Commission

[Docket No. EL00-95-000 and Docket No. EL00-98-000]

San Diego Gas & Electric Company, Complainant, v. Sellers of Energy and Ancillary Services Into Markets Operated by the California Independent System Operator and the California Power Exchange, Respondent; Investigation of Practices of the California Independent System Operator and the California Power Exchange; Notice of Initiation of Proceeding and Refund Effective Date

August 24, 2000.

Take notice that on August 23, 2000, the Commission issued an order in the above-indicated dockets initiating a proceeding in Docket No. EL00-98-000 under section 206 of the Federal Power Act.

The refund effective date in Docket No. EL00-98-000 will be 60 days after publication of this notice in the Federal Register.

Linwood A. Watson, Jr.,
Acting Secretary.

[FR Doc. 00-22098 Filed 8-29-00; 8:45 am]

BILLING CODE 6717-01-M